DEPARTMENT OF TRANSPORTATION

Federal Aviation Administration

14 CFR Part 71

[Docket No. FAA-2021-0589; Airspace Docket No. 21-ASO-23]

RIN 2120-AA66

Amendment and Establishment of Class D and Class E Airspace; Columbus, GA

AGENCY: Federal Aviation Administration (FAA), DOT.

ACTION: Final rule.

SUMMARY: This action amends Class D airspace, Class E surface area, and Class E airspace extending upward from 700 feet above the surface for Columbus Airport and Lawson Army Air Field (AAF) (Fort Benning), Columbus, GA. This action merges Columbus Airport and Lawson AAF (Fort Benning) Class D airspace and Class E surface area airspace into one header under FAA Order JO 7400.11 and removes the header Columbus Lawson AAF under FAA Order JO 7400.11. This action also amends Columbus Airport's Class D by updating the name of Columbus Airport, (formerly Columbus Metropolitan Airport) and updating the name of Lawson Army Airfield (Fort Benning), (formerly Columbus Lawson AAF); the Lawson AAF (Fort Benning) Class D is amended by establishing an extension to the southeast. This action establishes Class E airspace designated as an extension to a Class D surface area for Columbus Airport, Columbus, GA. The Columbus Airport Class E surface area extension is eliminated and Lawson AAF (Fort Benning) Class E surface area is amended by establishing an extension to the southeast. Columbus Class E airspace extending upward from 700 feet above the surface and Lawson AAF (Fort Benning) Class E airspace extending upward from 700 feet above the surface is amended by increasing the radii and removing the Lawson Very High Frequency Omnidirectional Range with Distance Measuring Equipment (VOR/DME) and Lawson Localizer (LOC) from the description. In addition, this action also makes an editorial change replacing the term Airport/Facility Directory with the term Chart Supplement in the legal descriptions of associated Class D airspace and Class E surface area. In addition, this action updates the geographic coordinates of the Lawson AAF (Fort Benning) to coincide with the FAA's database. Controlled airspace is necessary for the safety and management of instrument flight rules (IFR) operations in the area.

DATES: Effective 0901 UTC, March 24, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order JO 7400.11F at NARA, email fr.inspection@nara.gov or go to https://www.archives.gov/federal-register/cfr/ibr-locations.html.

FOR FURTHER INFORMATION CONTACT: John Goodson, Operations Support Group, Eastern Service Center, Federal Aviation Administration, 1701 Columbia Ave., College Park, GA 30337; Telephone (404) 305-5966.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace, amends Class E Surface airspace, amends Class E airspace extending upward from 700 feet above the surface, and establishes Class E airspace designated as an Extension to a Class D Surface Area for Columbus, GA, to support IFR operations in the area.

History

The FAA published a notice of proposed rulemaking in the Federal Register (86 FR 58819, October 25, 2021) for Docket No. FAA-2021-0589 to amend Class D airspace, amend Class E Surface airspace, amend Class E airspace extending upward from 700 feet above the surface, and establishes Class E airspace designated as an Extension to a Class D Surface Area for Columbus, GA.

Subsequent to publication, the FAA found the names of Lawson AAF (AAF) required updating. The correct name is Lawson AAF (Fort Benning). This action makes the update.

Interested parties were invited to participate in this rulemaking effort by submitting written comments on the proposal to the FAA. Two comments were received, one comment was positive and one comment was a blank submission.

Class D airspace and Class E airspace designations are published in Paragraph 5000, 6002, 6004, and 6005 respectively, of FAA Order JO 7400.11F, dated August 10, 2021, and effective September 15, 2021, which is incorporated by reference in 14 CFR 71.1. The Class D and Class E airspace designations listed in this document will be published subsequently in FAA Order JO 7400.11F.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic routes, and reporting points.

The Rule

The FAA is amending 14 CFR part 71 by amending Class D, Class E surface area, and Class E airspace extending upward from 700 feet above the surface at Columbus Airport, Columbus, GA, and Lawson AAF (Fort Benning), Columbus, GA. This action merges Columbus Airport and Lawson AAF (Fort Benning) Class D airspace and Class E surface area airspace into one header under FAA Order JO 7400.11 and removes the header Columbus Lawson AAF under FAA Order JO 7400.11. This action establishes Class E airspace designated as an extension to a Class D surface area at Columbus Airport, Columbus, GA.

The Columbus Airport Class D airspace is amended by eliminating the extension to the southwest and updating the name to Columbus Airport (previously Columbus Metropolitan Airport). This action also makes the editorial change replacing the term Airport/Facility Directory with the term Chart Supplement in the legal description.

The Lawson AAF (Fort Benning) Class D airspace is amended by establishing an extension within 1.0 mile each side of the 145° bearing from the AAF extending from the 5.2-mile radius to 6.8 miles southeast of the AAF and updating the name to Lawson AAF (Fort Benning), (previously Columbus Lawson AAF). This action also makes the editorial change replacing the term Airport/Facility Directory with the term Chart Supplement in the legal description. In addition, this action also updates the geographic coordinates to coincide with the FAA's database.

The Columbus Airport Class E surface area is amended by eliminating the extension to the southwest. This action also makes the editorial change replacing the term Airport/Facility Directory with the term Chart Supplement in the legal description.

The Lawson AAF (Fort Benning) Class E surface area is amended by establishing an extension within 1.0 mile each side of the 145° bearing from the AAF extending from the 5.2-mile radius to 6.8 miles southeast of the AAF. This action also makes an editorial change replacing the term Airport/Facility Directory with the term Chart Supplement in the legal description. In addition, this action also updates the geographic coordinates to coincide with the FAA's database.

The Columbus, GA Class E airspace designated as an extension to a Class D surface area at for Columbus Airport is established by adding that airspace extending upward from the surface within 1 mile each side of the 234° bearing from the airport extending from the 4.4-mile radius to 7.1 miles southwest of the airport.

The Columbus, GA Class E airspace extending upward from 700 feet above the surface is amended by increasing the radius of Columbus Airport to 9.6 miles, (previously 6.8 miles) and eliminating the extension to the southeast.

The Lawson AAF (Fort Benning) Class E airspace extending upward from 700 feet above the surface is amended by increasing the radius to 9.3 miles, (previously 7.6 miles), eliminating the Lawson VOR/DME and Lawson LOC from the description, adding the airspace within 3.8 miles each side of Lawson AAF (Fort Benning) 341° bearing from the AAF extending from the 9.3-mile radius to 15.2 miles northwest of the AAF, and 4.1 miles each side of the Lawson AAF (Fort Benning) 145° bearing from the AAF extending from the 9.3-mile radius to 10.6 miles southeast of the AAF.

Class D and E airspace designations are published in Paragraphs 5000, 6002, 6004, and 6005, respectively, of FAA Order JO 7400.11F, dated August 10, 2021, and effective September 15, 2021, which is incorporated by reference in 14 CFR 71.1. The Class D and E airspace designations listed in this document will be published subsequently in the Order.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures an air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ASO GA D Columbus, GA [Amended]

Columbus Airport, GA

(Lat 32°30′59″ N, long. 84°56′20″ W)

Lawson AAF (Fort Benning), GA

(Lat. 32°19′54″ N, long. 84°59′14″ W)

That airspace extending upward from the surface to and including 2,900 feet MSL within a 4.4-mile radius of the Columbus Airport; and that airspace extending upward from the surface to and including 2,700 feet MSL within a 5.2-mile radius of Lawson Army Airfield (Ft. Benning) and that airspace within 1 mile each side of the 145° bearing from the AAF extending from the 5.2-mile radius to 6.8 miles southeast of the AAF. This Class D airspace is effective during the specific dates and times established in advance by a Notice to Airmen. The effective date and time will thereafter be continuously published in the Chart Supplement.

Paragraph 6002 Class E Airspace Areas Designated as a Surface Area

* * * * *

ASO GA E2 Columbus, GA [Amended]

Columbus Airport, GA

(Lat 32°30′59″ N, long. 84°56′20″ W)

Lawson AAF (Fort Benning), GA

(Lat. 32°19′54″ N, long. 84°59′14″ W)

That airspace extending upward from the surface within a 4.4-mile radius of Columbus Airport; and that airspace within a 5.2-mile radius of Lawson AAF (Fort Benning) and that airspace within 1 mile each side of the 145° bearing from the AAF extending from the 5.2-mile radius to 6.8 miles southeast of the AAF. This Class E airspace area is effective during the specific dates and times established in advance by a Notice to Airmen. The effective date and time will thereafter be continuously published in the Chart Supplement.

Paragraph 6004 Class E Airspace Designated as an Extension to a Class D Surface Area.

* * * * *

ASO GA E4 Columbus, GA [New]

Columbus Airport, GA

(Lat 32°30′59″ N, long. 84°56′20″ W)

That airspace extending upward from the surface within 1 mile each side of the 234° bearing from the airport extending from the 4.4-mile radius to 7.1 miles southwest of the airport.

Paragraph 6005 Class E Airspace Areas Extending Upward From 700 Feet or More Above the Surface of the Earth.

* * * * *

ASO GA E5 Columbus, GA [Amended]

Columbus Airport, GA

(Lat 32°30′59″ N, long. 84°56′20″ W)

Lawson AAF (Fort Benning), GA

(Lat. 32°19′54″ N, long. 84°59′14″ W)

That airspace extending upward from 700 feet above the surface within a 9.6-mile radius of Columbus Airport; and within a 9.3-mile radius of Lawson AAF (Fort Benning), and within 3.8 miles each side of Lawson AAF (Fort Benning) 341° bearing from the AAF extending from the 9.3-mile radius to 15.2 miles northwest of the AAF, and 4.1 miles each side of the Lawson AAF (Fort Benning) 145° bearing from the AAF extending from the 9.3-mile radius to 10.6 miles southeast of the AAF.

Issued in College Park, Georgia, on January 10, 2022.
Andreese C. Davis,
Manager, Airspace & Procedures Team South, Eastern Service Center, Air Traffic Organization.

[FR Doc. 2022-00651 Filed 1-14-22; 8:45 am]

BILLING CODE 4910-13-P